DEPARTMENT OF TRANSPORTATION

Federal Aviation Administration

14 CFR Part 39

[Docket No. FAA-2017-1217; Product Identifier 2016-SW-080-AD; Amendment 39-19528; AD 2018-25-17]

RIN 2120-AA64

Airworthiness Directives; Air Comm Corporation Air Conditioning Systems

AGENCY: Federal Aviation Administration (FAA), DOT.

ACTION: Final rule.

SUMMARY: We are adopting a new airworthiness directive (AD) for Air Comm Corporation (Air Comm) air conditioning systems installed on various model helicopters. This AD requires replacing electrical connectors and prohibits the installation of other parts. This AD was prompted by reports of overheated connectors. The actions of this AD are intended to address an unsafe condition on these products.

DATES: This AD is effective January 22, 2019.

The Director of the Federal Register approved the incorporation by reference of certain documents listed in this AD as of January 22, 2019.

ADDRESSES: For service information identified in this final rule, contact Air Comm Corporation, 1575 West 124th Ave., Westminster, CO 80234; telephone (303) 440-4075; email service@aircommcorp.com; website www.aircommcorp.com. You may review a copy of the referenced service information at the FAA, Office of the Regional Counsel, Southwest Region, 10101 Hillwood Pkwy, Room 6N-321, Fort Worth, TX 76177. It is also available on the internet at http://www.regulations.gov by searching for and locating Docket No. FAA-2017-1217.

Examining the AD Docket

You may examine the AD docket on the internet at http://www.regulations.gov by searching for and locating Docket No. FAA-2017-1217; or in person at Docket Operations between 9 a.m. and 5 p.m., Monday through Friday, except Federal holidays. The AD docket contains this AD, any incorporated-by-reference service information, the economic evaluation, the Special Airworthiness Information Bulletin (SAIB), any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Matthew Bryant, Aerospace Engineer, Denver ACO Branch, Compliance & Airworthiness Division, FAA, 26805 East 68th Ave., Room 214, Denver, CO 80249; telephone (303) 342-1092; email matthew.bryant@faa.gov.

SUPPLEMENTARY INFORMATION:

Discussion

On January 11, 2018, at 83 FR 1313, the Federal Register published our notice of proposed rulemaking (NPRM), which proposed to amend 14 CFR part 39 by adding an AD that would apply to Airbus Helicopters Model AS350B, AS350B1, AS350B2, AS350B3, AS350BA, AS350C, AS350D, AS350D1, and EC130B4, and Bell Model 206A, 206B, 206L, 206L-1, 206L-3, and 206L-4, and 407 helicopters with certain part-numbered Air Comm air conditioning systems installed. The NPRM proposed to require replacing certain connectors with Air Comm connectors and to prohibit installing certain part-numbered plugs, sockets, receptacles, and pin in some aft evaporator assemblies, aft evaporator blower assemblies, and aft condenser blowers. The proposed requirements were intended to address the unsafe condition of an overheated connector, which could result in a fire and subsequent loss of control of the helicopter.

Ex Parte Contact

On April 17, 2018, after the comment period closed, we had a teleconference with Air Comm about some of the Air Comm parts identified in the NPRM. We subsequently continued this discussion by email. Air Comm's comment during these discussions is addressed below. A copy of each email contact and a summary of each telephone contact can be found in the rulemaking docket at http://www.regulations.gov in Docket No. FAA-2017-1217.

Comments

We gave the public the opportunity to participate in developing this AD. The following presents the comment we received and the FAA's response.

Request

Air Comm requested that we review paragraph (e)(2) of the NPRM, which lists aft evaporator assembly part number (P/N) AS350-6202. Air Comm stated that this P/N is not part of the type design for the air conditioning system. According to Air Comm, the correct P/N is AS350-6202-1. In support of this request, Air Comm provided the type design data for our review.

We agree. Although Figure 1 of Air Comm Corporation Service Bulletin (SB) AS350-111014, Revision B, dated January 10, 2017, identifies the aft evaporator assembly as P/N AS350-6202, the correct P/N is AS350-6202-1. We have corrected this error in this Final Rule.

Further, because of Air Comm's comments, we conducted additional review of the blower and wire harness drawings for the affected components. As a result, we determined that plugP/N 03-09-1042 and receptacle P/N 03-09-2042 were listed in error in the NPRM. These two P/Ns are also not part of the type design for the air conditioning system. Accordingly, we have removed these P/Ns from paragraph (e)(2) of this Final Rule.

FAA's Determination

We have reviewed the relevant information and determined that an unsafe condition exists and is likely to exist or develop on other products of these same type designs and that air safety and the public interest require adopting the AD requirements as proposed with the changes described previously. These changes are consistent with the intent of the proposals in the NPRM and will not increase the economic burden on any operator nor increase the scope of the AD.

Related Service Information Under 1 CFR Part 51

Air Comm Corporation has issued SB AS350-111014, Revision B, dated January 10, 2017, for Airbus Helicopters AS350 series helicopters and SB EC130-6204, Revision B, dated January 10, 2017, for Airbus Helicopters EC130 series helicopters. Air Comm Corporation has also issued SB 206-110414 for Bell 206 series helicopters, Revision C, and SB 407-110414 for Bell Model 407 helicopters, Revision D, both dated January 13, 2017. This service information specifies inspecting certain aft evaporator blower motor and certain condenser blower electrical connectors for indications of overheating, discoloration, and plastic deformation and performing a pull test. This service information also specifies replacing connector housings and contacts that fail the inspection or the pull test.

This service information is reasonably available because the interested parties have access to it through their normal course of business or by the means identified in the ADDRESSES section.

Other Related Service Information

Air Comm Corporation has also issued the following:

• SB AS350-111014 and SB EC130-6204, both Revision A and both dated July 6, 2016;

• SB 206-110414, Revision B, dated January 10, 2017, and Revision A dated June 3, 2016; and

• SB 407-110414, Revision C, dated January 10, 2017, and Revision B, dated July 6, 2016.

This service information contains the same procedures described above. However, SB AS350-111014 and SB EC130-6204, both Revision B and dated January 10, 2017, contain additional instructions and figures for the connectors. SB 206-110414, Revision C, and SB 407-110414, Revision D, both dated January 13, 2017, contain minor corrections.

Differences Between This AD and the Service Information

The Air Comm service information specifies a compliance time of 20 flight hours. This AD requires compliance within 90 hours time-in-service. The Air Comm service information specifies inspecting each connector and replacing the connector housings and contacts that have any signs of overheating or that fail a pull test. This AD requires replacing each connector without an inspection. This AD also prohibits installing certain parts in certain part-numbered aft evaporator assemblies, aft evaporator blower assemblies, and aft condenser blowers.

Costs of Compliance

We estimate that this AD affects 914 units installed on helicopters of U.S. Registry. We estimate that operators may incur the following costs in order to comply with this AD. Labor costs are estimated at $85 per work-hour.

Replacing the connectors takes about 1 work-hour and parts cost about $60 for a total estimated cost of $145 per helicopter and $132,530 for the U.S. fleet.

According to Air Comm's service information, some of the costs of this AD may be covered under warranty, thereby reducing the cost impact on affected individuals. We do not control warranty coverage by Air Comm. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-17 Air Comm Corporation (Air Comm) Air Conditioning Systems: Amendment 39-19528; Docket No. FAA-2017-1217; Product Identifier 2016-SW-080-AD.

(a) Applicability

This AD applies to the following helicopters, certificated in any category:

(1) Airbus Helicopters Model AS350B, AS350B1, AS350B2, AS350B3, AS350BA, AS350C, AS350D, and AS350D1 helicopters with an Air Comm air conditioning system part number (P/N) AS350-202-1, AS350-202-2, AS350-202-3, AS350-202-4, AS350-202-5, AS350-204-1, AS350-204-2, AS350-204-3, AS350-204-4, AS350-204-5, AS350-204-6, AS350-204-7, AS350-204-8, AS350-204-9, AS350-204-10, AS350-204-11, or AS350-204-12 installed.

(2) Airbus Helicopters Model EC130B4 helicopters with an Air Comm air conditioning system P/N EC130-202-1, EC130-202-2, EC130-202-3, EC130-202-4, EC130-202-5, EC130-202-6, EC130-202-7, or EC130-202-8 installed.

(3) Bell Helicopter Textron Canada Limited (Bell) Model 206A, 206B, 206L, 206L-1, 206L-3, and 206L-4 helicopters with an Air Comm air conditioning system P/N 206EC-200, 206EC-201, 206EC-202, 206EC-203, 206EC-204, 206EC-205, 206EC-206, 206EC-207, 206EC-208, 206EC-209, 206EC-210, 206EC-211, or 206EC-212 installed.

(4) Bell Model 407 helicopters with an Air Comm air conditioning system P/N 407 EC-201, 407 EC-202, or 407 EC-203 installed.

(b) Unsafe Condition

This AD defines the unsafe condition as an overheated connector. This condition could result in a fire and subsequent loss of control of the helicopter.

(c) Effective Date

This AD becomes effective January 22, 2019.

(d) Compliance

You are responsible for performing each action required by this AD within the specified compliance time unless it has already been accomplished prior to that time.

(e) Required Actions

(1) Within 90 hours time-in-service:

(i) For Airbus Helicopters Model AS350B, AS350B1, AS350B2, AS350B3, AS350BA, AS350C, AS350D, and AS350D1 helicopters, replace each aft evaporator blower motor connector with an Air Comm connector as depicted in Figures 2, 3, and 4 of Air Comm Service Bulletin (SB) SB AS350-1110014, Revision B, dated January 10, 2017, by using a Deutsch HDT-48-00 or an equivalent MIL-DTL22520 Type 1 crimping tool.

(ii) For Airbus Helicopters Model EC130B4 helicopters, replace each aft evaporator blower motor connector with an Air Comm connector as depicted in Figures 2, 3, and 4 of Air Comm SB EC130-6204, Revision B, dated January 10, 2017, by using a Deutsch HDT-48-00 or an equivalent MIL-DTL22520 Type 1 crimping tool.

(iii) For Bell Model 206A, 206B, 206L, 206L-1, 206L-3, and 206L-4 helicopters, replace each aft evaporator blower motor connector with an Air Comm connector as depicted in Figures 4, 5, and 6 of Air Comm SB 206-110414, Revision C, dated January 13, 2017, by using a Deutsch HDT-48-00 or an equivalent MIL-DTL22520 Type 1 crimping tool.

(iv) For Bell Model 407 helicopters, replace each aft evaporator blower motor connector with an Air Comm connector as depicted in Figures 4, 5, and 6 of Air Comm SB 407-110414, Revision D, dated January 13, 2017, by using a Deutsch HDT-48-00 or an equivalent MIL-DTL22520 Type 1 crimping tool.

(2) After the effective date of this AD, do not install the following in any aft evaporator assembly P/Ns AS350-6202-1, EC130-6204-1, or EC130-6204-2; aft evaporator blower assembly P/Ns S-6078EC-15, S-6102EC-3, or S-6102EC-4; or aft condenser blower P/Ns S-7060EC-1, S-7060EC-2, S-7062EC-1 or S-7062EC-2:

(i) Plug P/N 03-09-1022 and 03-09-1032;

(ii) Socket P/N 02-09-1103 and 02-09-1104;

(iii) Receptacle P/N 03-09-2022 and 03-09-2032; and

(iv) Pin P/N 02-09-2103.

(f) Credit for Previous Actions

Replacing the connectors before the effective date of this AD in accordance with Air Comm SB 206-110414, Revision A, dated June 3, 2016; SB AS350-111014 or SB EC130-6204, both Revision A and both dated July 6, 2016; SB 407-110414, Revision B, dated July 6, 2016; SB 206-110414, Revision B, dated January 10, 2017; or SB 407-110414, Revision C, dated January 10, 2017, is considered acceptable for compliance with the corresponding required actions specified in paragraph (e)(1) of this AD.

(g) Alternative Methods of Compliance (AMOCs)

(1) The Manager, Denver ACO Branch, FAA, may approve AMOCs for this AD. Send your proposal to: Matthew Bryant, Aerospace Engineer, Denver ACO Branch, Compliance & Airworthiness Division, FAA, 26805 East 68th Ave., Room 214, Denver, CO 80249; telephone (303) 342-1092; email matthew.bryant@faa.gov and 9-Denver-Aircraft-Cert@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

Air Comm SB 206-110414, Revision A, dated June 3, 2016; SB AS350-111014 or SB EC130-6204, both Revision A and both dated July 6, 2016; SB 407-110414, Revision B, dated July 6, 2016; SB 206-110414, Revision B, dated January 10, 2017; and SB 407-110414, Revision C, dated January 10, 2017, which are not incorporated by reference, contain additional information about the subject of this AD. For service information identified in this AD, contact Air Comm Corporation, 1575 West 124th Ave., Westminster, CO 80234; telephone (303) 440-4075; email service@aircommcorp.com; website www.aircommcorp.com. You may review a copy of this service information at the FAA, Office of the Regional Counsel, Southwest Region, 10101 Hillwood Pkwy, Room 6N-321, Fort Worth, TX 76177.

(i) Subject

Joint Aircraft Service Component (JASC) Code: 2197, Air Conditioning System Wiring.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Air Comm Corporation Service Bulletin (SB) SB AS350-111014, Revision B, dated January 10, 2017.

(ii) Air Comm Corporation SB EC130-6204, Revision B, dated January 10, 2017.

(iii) Air Comm Corporation SB 206-110414, Revision C, dated January 13, 2017.

(iv) Air Comm Corporation SB 407-110414, Revision D, dated January 13, 2017.

(3) For Air Comm service information identified in this AD, contact Air Comm Corporation, 1575 West 124th Ave., Westminster, CO 80234; telephone (303) 440-4075; email service@aircommcorp.com; website www.aircommcorp.com.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 7, 2018.
Lance T. Gant,
Director, Compliance & Airworthiness Division, Aircraft Certification Service.

[FR Doc. 2018-27134 Filed 12-14-18; 8:45 am]

BILLING CODE 4910-13-P